DEPARTMENT OF THE TREASURY

Internal Revenue Service

Performance Review Board

AGENCY: Internal Revenue Service (IRS), Treasury.

ACTION: Notice of Members of Senior Executive Service Performance Review Board.

EFFECTIVE DATE: October 1, 2002.

FOR FURTHER INFORMATION CONTACT: Bernie Doyle, 1111 Constitution Avenue, NW, N:ADC:H:S Room 3513, Washington, DC 20224, (202) 927-6421.

SUPPLEMENTARY INFORMATION: As required by Chapter 43, Subchapter II, Section 4314(4) of Title 5, U.S. Code and Part 430, Subpart C. Section 430.310, the following executives are members of the Internal Revenue Service's Senior Executive Service Performance Review Board (PRB):

Robert E. Wenzel, Deputy Commissioner and Chairperson, Service-wide Performance Review Board

Tyrone B. Ayers, Director, Communications, Assistance, Research, and Education

Leonard Baptiste, Jr., Director, Security and Privacy Oversight

Darlene R. Berthod, Deputy Commissioner, Tax Exempt and Government Entities

Helen H. Bolton, Director, Human Resources Policy and Program

Delena D. Bratton, Deputy Chief/National Director, Government Liaison and Disclosure

Dennis E. Crawford, Deputy Chief, Criminal Investigation

Richard J. Cronin, Director, Personnel Services

John M. Dalrymple, Commissioner, Wage and Investment

Mary E. Davis, Director, Strategy and Finance

John C. Duder, Deputy Commissioner, Wage and Investment

Fred L. Forman, Associate Commissioner for Business Systems Modernization

Linda M. Garrard, Deputy Chief, Appeals

W. Todd Grams, Chief Financial Officer

Thelma Harris, Director, EEO & Diversity Field Services

Dale F. Hart, Deputy Commissioner, Small Business and Self-Employed

Joseph G. Kehoe, Commissioner, Small Business and Self-Employed

Francis M. Keith Jr., National Director, Communication

Henry O. Lamar Jr., Deputy, National Taxpayer Advocate

Larry R. Langdon, Commissioner, Large and Mid-Size Business

David A. Mader, Assistant Deputy Commissioner

Richard J. Morgante, Director, Management and Finance

Deborah M. Nolan, Deputy Commissioner, Large and Mid-Size Business

Evelyn A. Petschek, Commissioner, Tax Exempt and Government Entities

William E. Porter, Director, Resources Allocation

John C. Reece, Deputy Commissioner Modernization & CIO

John A. Ressler, Director, Customer Account Services

David B. Robison, Chief, Appeals

Johnny C. Rose, Director, Operations Policy and Support

Gregory D. Rothwell, Deputy Chief, Agency-Wide Shared Services

Gerald J. Songy, Director, Taxpayer Education and Communication

Richard Speier Jr., Director of Field Operations, Pacific Area

Ronald Stephen, Director, Real Estate & Facilities

Linda E. Stiff, Director, Compliance

Martha Sullivan, Director, Compliance

Robert C. Turner, National Director, Strategic Planning and Client Services

John R. Watson, Director, Customer Accounts Services

Dan Whitten, Director of Field Operations, Mid-Atlantic Area

Floyd L. Williams III, National Director, Legislative Affairs Division

Toni L. Zimmerman, Deputy Director, Information Technology

This document does not meet the Department of Treasury's criteria for significant regulations.

Dated: July 25, 2002.
Charles O. Rossotti,
Commissioner of Internal Revenue.

[FR Doc. 02-20622 Filed 8-13-02; 8:45 am]

BILLING CODE 4830-01-P